Title 3—

The President

Proclamation 7744 of December 10, 2003

Human Rights Day, Bill of Rights Day, and Human Rights Week, 2003

By the President of the United States of America

A Proclamation

America's founders dedicated this country to life, liberty, and the pursuit of happiness. During Human Rights Day, Bill of Rights Day, and Human Rights Week, we recognize the advances we have made expanding freedom, democracy, and individual rights in this country and around the world.

America has helped bring liberty to Afghanistan and Iraq. In countries like Belarus, Cuba, and Zimbabwe, we continue to stand with those who struggle for democracy. We will continue to call on Burma's ruling junta to release political prisoners and engage in an inclusive dialogue with the democratic opposition to bring democracy to Burma. We also look forward to the day when the men and women of North Korea can live in a free society.

Freedom is the right of mankind and the future of every nation. It is not America's gift to the world; it is God's gift to every man and woman who lives in this world.

NOW, THEREFORE, I, GEORGE W. BUSH, President of the United States of America, by virtue of the authority vested in me by the Constitution and laws of the United States, do hereby proclaim December 10, 2003, as Human Rights Day; December 15, 2003, as Bill of Rights Day; and the week beginning December 10, 2003, as Human Rights Week. I call upon the people of the United States to mark these observances with appropriate ceremonies and activities.

IN WITNESS WHEREOF, I have hereunto set my hand this tenth day of December, in the year of our Lord two thousand three, and of the Independence of the United States of America the two hundred and twenty-eighth.

B

[FR Doc. 03-31075

Filed 12-12-03; 9:44 am]

Billing code 3195-01-P